DEPARTMENT OF LABOR

Employment and Training Administration

[TA-W-55,597A, TA-W-55,597B, TA-W-55,97C]

VF Jeanswear Limited Partnership, Subsidiary of VF Corporation Faben Facility, Cutting and Parts Division, Fabens, Texas; VF Jeanswear Limited Partnership, Subsidiary of VF Corporation Rojas Facility, Administrative Division, El Paso, Texas; VF Jeanswear Limited Partnership, Subsidiary of VF Corporation Riverside Facility, Laundry and Finishing Division, El Paso, TX; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on September 23, 2004, applicable to workers of VF Jeanswear Limited Partnership, subsidiary of VF Corporation, Cutting and Parts Division, Fabens, Texas, VF Jeanswear Limited Partnership, subsidiary of VF Corporation, Administrative Division, El Paso, Texas and VF Jeanswear Limited Partnership, subsidiary of VF Corporation, Laundry and Finishing Division, El Paso, Texas. The notice will be published soon in the Federal Register.

At the request of the State agency, the Department reviewed the certification for workers of the subject firm. The workers are engaged in the production of jeans for men; women and children provide administrative support services, and laundry and finishing of the jeans and are separately identifiable by location.

New findings show that there was a previous certification, TA-W-40,737 and TA-W-40,737A, issued on February 11, 2002, for workers of VF Jeanswear Limited Partnership, Fabens Facility, Fabens, Texas, Rojas Facility, El Paso, Texas and Riverside Facility, El Paso, Texas who were engaged in employment related to the production of jeans, administrative support services and laundry and finishing of the jeans. That certification expired February 11, 2004. To avoid an overlap in worker group coverage, the certification is being amended to change the impact date from September 10, 2003 to February 12, 2004, for workers of the subject firm.

The amended notice applicable to TA-W-55,597A, TA-W-55,597B and TA-W-55,597C are hereby issued as follows:

All workers of VF Jeanswear Limited Partnership, subsidiary of VF Corporation, Fabens Facility, Cutting and Parts Division, Fabens, Texas (TA-W-55,597A), VF Jeanswear Limited Partnership, subsidiary of VF Corporation, Rojas Facility, Administrative Division, El Paso, Texas (TA-W-55,597B), and VF Jeanswear Limited Partnership, subsidiary of VF Corporation, Riverside Facility, Laundry and Finishing Division, El Paso, Texas, who became totally or partially separated from employment on or after February 12, 2004, through September 23, 2006, are eligible to apply for adjustment assistance under Section 223 of the Trade Act of 1974, and are also eligible to apply for alternative trade adjustment assistance under Section 246 of the Trade Act of 1974.

Signed at Washington, DC this 4th day of October 2004.
Richard Church,
Certifying Officer, Division of Trade Adjustment Assistance.

[FR Doc. E4-2697 Filed 10-15-04; 8:45 am]

BILLING CODE